ENVIRONMENTAL PROTECTION AGENCY

[EPA-HQ-ORD-2007-0362; FRL-8313-8]

Notice of Availability of the Draft Final Report: “Comparison of the Alternative Asbestos Control Method and the NESHAP Method for Demolition of Asbestos-Containing Buildings”

AGENCY: Environmental Protection Agency (EPA).

ACTION: Notice of document availability and invitation for public comment.

SUMMARY: The U.S. Environmental Protection Agency is announcing a public comment period and independent, external peer review for the draft Final Report for the Alternative Asbestos Control Method (AACM) Demonstration Project. The external peer review is expected to include a face-to-face meeting in Cincinnati, OH. The time and location for the external peer review meeting have not yet been determined and will be specified in a separate Federal Register notice. EPA expects to invite the public to attend the meeting and to provide an opportunity to the public to make comments at the meeting. The public comment period and the external peer review provide opportunities for all interested parties to comment on the report. In addition to consideration by EPA, all public comments submitted in accordance with this notice will also be forwarded to EPA's contractor for consideration by the external peer review panel prior to the meeting.

EPA is releasing this draft document solely for the purpose of pre-dissemination peer review under applicable information quality guidelines. This document has not been formally disseminated by EPA. This draft Final Report does not represent and should not be construed to represent any EPA policy, viewpoint, or determination.

The U.S. EPA conducted a controlled demonstration to evaluate the AACM alongside the current National Emissions Standards for Hazardous Air Pollutants (NESHAP) method in a remote, secure location at Fort Chaffee, Arkansas. To facilitate side-by-side comparison, the demonstration used two similar structures with asbestos-containing materials. Additional information about this research project, including a description of the AACM and the project schedule, is available at http://epa.gov/region6/6xa/asbestos.htm.

DATES: The public comment period for this draft Final Report begins with the publication of this notice. Comments may be submitted by June 11, 2007.

ADDRESSES: Members of the public may obtain the draft Final Report from www.regulations.gov or from Stephen Watkins via the contact information below.

Public comments should be identified by Docket ID No. EPA-HQ-ORD-2007-0362, and submitted by one of the following methods:

• www.regulations.gov: Follow the on-line instructions for submitting comments.

• E-mail: ORD.Docket@epa.gov.

• Mail: ORD Docket, Environmental Protection Agency, Mailcode: 28221T, 1200 Pennsylvania Ave., NW., Washington, DC 20460

• Hand Delivery: EPA Docket Center (EPA/DC), Room 3334, EPA West Building, 1301 Constitution Avenue, NW., Washington, DC 20460, Attention Docket ID No. EPA-HQ-ORD-2007-0362. Deliveries are only accepted from 8:30 a.m. to 4:30 p.m., Monday through Friday, excluding legal holidays. Special arrangements should be made for deliveries of boxed information.

Instructions: Direct your comments to Docket ID No. EPA-HQ-ORD-2007-0362. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA, without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the ORD Docket, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the ORD Docket is (202) 566-1752.

FOR FURTHER INFORMATION CONTACT: If you would like additional information regarding the draft Final Report, or EPA's independent, external peer review process, please contact Stephen Watkins, Office of Research and Development, Mail Code 8104-R, Environmental Protection Agency, 1200 Pennsylvania Avenue, NW., Washington, DC 20460; telephone number: (202) 564-3744; fax number: (202) 565-2925, E-mail: watkins.stephen@epa.gov.

Dated: May 1, 2007.
Jeff Morris,
Acting Director, Office of Science Policy.

[FR Doc. E7-9098 Filed 5-10-07; 8:45 am]

BILLING CODE 6560-50-P